OFFICE OF THE UNITED STATES TRADE REPRESENTATIVE

Reallocation of Unused Fiscal Year 2021 Tariff-Rate Quota Volume for Raw Cane Sugar

AGENCY: Office of the United States Trade Representative.

ACTION: Notice.

SUMMARY: The Office of the United States Trade Representative (USTR) is providing notice of country-by-country reallocations of the fiscal year (FY) 2021 in-quota quantity of the World Trade Organization (WTO) tariff-rate quota (TRQ) for imported raw cane sugar.

DATES: This notice is applicable on November 4, 2021.

FOR FURTHER INFORMATION CONTACT: Erin Nicholson, Office of Agricultural Affairs, at 202-395-9419, or Erin.H.Nicholson@ustr.eop.gov.

SUPPLEMENTARY INFORMATION: Pursuant to Additional U.S. Note 5 to Chapter 17 of the Harmonized Tariff Schedule of the United States (HTSUS), the United States maintains WTO TRQs for imports of raw cane and refined sugar.

Section 404(d)(3) of the Uruguay Round Agreements Act (19 U.S.C. 3601(d)(3)) authorizes the President to allocate the in-quota quantity of a TRQ for any agricultural product among supplying countries or customs areas. The President delegated this authority to the U.S. Trade Representative under Presidential Proclamation 6763 (60 FR 1007).

On July 9, 2020, the Secretary of Agriculture established the FY 2021 TRQ for imported raw cane sugar at the minimum amount to which the United States committed to pursuant to the WTO Uruguay Round Agreements (1,117,195 metric tons raw value (MTRV) (conversion factor: 1 metric ton = 1.10231125 short tons). On July 22, 2020, USTR provided notice of country-by-country allocations of the FY 2021 in-quota quantity of the WTO TRQ for imported raw cane sugar. On July 9, 2021, USTR announced that it had determined to reallocate 76,571 MTRV of the original TRQ quantity from those countries that had stated they did not plan to fill their FY 2021 allocated raw cane sugar quantities. On August 24, 2021, the Secretary of Agriculture announced an additional in-quota quantity of the WTO TRQ for raw cane sugar for the remainder of FY 2021 in the amount of 90,100 MTRV. In the same notice, the Secretary of Agriculture announced that all sugar entering the United States under the FY 2021 raw cane sugar TRQ would be permitted to enter U.S. customs territory through October 31, 2021, a month later than the usual last entry date. On August 26, 2021, USTR provided notice of country-by-country allocations of the FY 2021 in-quota additional quantity of the WTO TRQ for imported raw cane sugar. Based on consultations with quota holders, USTR has determined to reallocate 29,440 MTRV of the overall FY 2021 raw cane sugar TRQ quantity from those countries that have stated they do not plan to fill their FY 2021 allocated raw cane sugar quantities. USTR is allocating the 29,440 MTRV to the following countries in the amounts specified below:

Country | FY 2021 raw sugar unused reallocation (MTRV)
Argentina | 1,629
Australia | 3,145
Belize | 417
Bolivia | 303
Brazil | 5,494
Colombia | 909
Costa Rica | 568
Dominican Republic | 6,668
Ecuador | 417
El Salvador | 985
Eswatini (Swaziland) | 606
Fiji | 341
Guatemala | 1,819
Guyana | 455
Honduras | 379
India | 303
Malawi | 379
Mauritius | 455
Mozambique | 493
Nicaragua | 796
Peru | 1,553
South Africa | 871
Zimbabwe | 455

The Secretary of Agriculture also has determined that all sugar entering the United States under the FY 2021 raw sugar TRQ will be permitted to enter U.S. Customs territory through December 31, 2021, extended from the previously announced date of October 31, 2021.

These allocations are based on the countries' historical shipments to the United States. The allocations of the raw cane sugar WTO TRQ to countries that are net importers of sugar are conditioned on receipt of the appropriate verifications of origin and certificates for quota eligibility must accompany imports from any country for which an allocation has been provided.

Greta Peisch,
General Counsel, Office of the United States Trade Representative.

[FR Doc. 2021-24095 Filed 11-3-21; 8:45 am]

BILLING CODE 3390-F2-P